DEPARTMENT OF COMMERCE

National Oceanic and Atmospheric Administration

[RTID 0648-XD762]

Endangered and Threatened Species: Expiration of Nonessential Experimental Population Designation for Middle Columbia River Steelhead Upstream of Round Butte Dam, Deschutes River Basin, Oregon

AGENCY: National Marine Fisheries Service (NMFS), National Oceanic and Atmospheric Administration (NOAA), Commerce.

ACTION: Notice.

SUMMARY: NMFS hereby gives notice that the nonessential experimental population (NEP) designation and accompanying protective measures for Middle Columbia River (MCR) steelhead occurring in all accessible reaches upstream of Round Butte Dam on the Deschutes River, Oregon, shall expire at midnight (00:00 hours; Pacific Standard Time) on January 15, 2025. Upon expiration, all steelhead that occur upstream of Round Butte Dam will be designated as threatened under the Endangered Species Act (ESA). This notice does not extend the upstream limit of existing critical habitat for MCR steelhead in the Deschutes River, nor does it designate new critical habitat.

FOR FURTHER INFORMATION CONTACT: Scott Carlon, Portland, Oregon, (971) 322-7436, email: scott.carlon@noaa.gov.

SUPPLEMENTARY INFORMATION: On March 25, 1999, we listed the MCR steelhead distinct population segment (DPS) as threatened under the ESA (64 FR 14517). The MCR steelhead DPS range covers approximately 35,000 square miles (90,650 square kilometers (km)) of the Columbia plateau in eastern Oregon and eastern Washington. The Deschutes River in central Oregon is one of six major river basins supporting steelhead in this distinct population segment. Since about 1968, the Pelton Round Butte Hydroelectric Project (Pelton Round Butte Project) on the Deschutes River entirely blocked MCR steelhead from accessing nearly 200 miles (322 km) of historical spawning and rearing habitat. In 2005, the Federal Energy Regulatory Commission issued a new 50-year license for the Pelton Round Butte Project. The new license required fish passage and the ensuing reintroduction of anadromous fish to historic habitat upstream of the Pelton Round Butte Project.

The specific stock chosen to initiate steelhead reintroduction was from the Round Butte Hatchery, a stock that was not included in the original 1999 ESA listing. After the new license was issued in June 2005 and reintroduction planning was largely completed, we included the Round Butte Hatchery steelhead stock as part of the threatened group of steelhead (71 FR 834, January 5, 2007), thus the reintroduction introduced ESA take liabilities to land and water users upstream of the Pelton Round Butte Project. We subsequently issued a final rule for the NEP designation that had an expiration date 12 years from the effective date of the final rule (78 FR 2893, January 15, 2013). More information about this designation, including the additional protective measures can be found in the Federal Register notice for that final rule.

The purpose of the NEP designation was to temporarily lift certain take liabilities and consultation requirements to allow time for local landowners and municipalities to develop well-informed conservation measures to support the reintroduction effort in the Upper Deschutes River basin. Subsequent to the NEP designation, eight irrigation districts and one municipality completed a large habitat conservation plan containing measures that address potential impacts to anadromous fish species including MCR steelhead. The habitat conservation plan addresses nearly all the waters that support MCR steelhead, and we recently issued an incidental take permit to the eight irrigation districts and municipality under section 10(a)(1)(B) of the ESA (88 FR 3392, January 19, 2023).

Dated: February 26, 2024.
Angela Somma,
Chief, Endangered Species Division, Office of Protected Resources, National Marine Fisheries Service.

[FR Doc. 2024-04311 Filed 2-29-24; 8:45 am]

BILLING CODE 3510-22-P